DEPARTMENT OF TRANSPORTATION

Federal Aviation Administration

14 CFR Part 39

[Docket No. FAA-2005-23159; Directorate Identifier 2005-SW-10-AD; Amendment 39-14510; AD 2006-06-02]

RIN 2120-AA64

Airworthiness Directives; Eurocopter France Model SA-365N, SA-365N1, AS-365N2, and SA-366G1 Helicopters

AGENCY: Federal Aviation Administration, DOT.

ACTION: Final rule.

SUMMARY: This amendment supersedes an existing airworthiness directive (AD) that currently applies to Eurocopter France (ECF) Model SA 365N, N1, and AS 365N2 helicopters. That AD currently requires inspecting the main gearbox (MGB) suspension diagonal cross-member (diagonal cross-member) for cracks and replacing it with an airworthy part if any crack is found. This amendment requires more frequent inspections of the diagonal cross-member and adding the Model SA-366G1 helicopters to the applicability. This amendment is prompted by several reports of cracks in the diagonal cross-member. The actions specified by this AD are intended to prevent failure of the diagonal cross-member, pivoting of the MGB, severe vibrations, and a subsequent forced landing.

DATES: Effective April 17, 2006.

ADDRESSES: You may get the service information identified in this AD from American Eurocopter Corporation, 2701 Forum Drive, Grand Prairie, Texas 75053-4005, telephone (972) 641-3460, fax (972) 641-3527.

Examining the Docket

You may examine the docket that contains this AD, any comments, and other information on the Internet at http://dms.dot.gov, or at the Docket Management System (DMS), U.S. Department of Transportation, 400 Seventh Street SW., Room PL-401, on the plaza level of the Nassif Building, Washington, DC.

FOR FURTHER INFORMATION CONTACT: Gary Roach, Aviation Safety Engineer, FAA, Rotorcraft Directorate, Regulations and Guidance Group, Fort Worth, Texas 76193-0111, telephone (817) 222-5130, fax (817) 222-5961.

SUPPLEMENTARY INFORMATION: A proposal to amend 14 CFR part 39 by superseding AD 98-08-14, Amendment 39-10463 (63 FR 17676, April 10, 1998), for the specified ECF model helicopters was published in the Federal Register on December 5, 2005 (70 FR 72409). The action proposed to require adding the Model SA-366G1 helicopter to the applicability because this model may contain an affected diagonal cross-member, part number (P/N) 365A38-3023-22, -23 or -24. Also, the action proposed more frequent inspections of the diagonal cross-member.

The Direction Generale De L'Aviation Civile (DGAC), the airworthiness authority for France, notified the FAA that an unsafe condition may exist on ECF Model AS-365N, N1, N2, and SA 366 G1 helicopters. The DGAC advises of the discovery of a crack in a diagonal cross-member of the ECF Model SA 366 G1 helicopter.

ECF has issued Service Bulletin (SB) No. 05.00.37, dated May 29, 1997, for Model AS-365N, N1, and N2 helicopters. The SB specifies a periodic inspection for a crack or failure of a central branch of the MGB suspension strut pre-MOD 0763B80. ECF has also issued Alert Service Bulletin (ASB) No. 05.25, dated June 19, 2002. The ASB specifies checking the center portion of the MGB suspension cross-bar for Model AS-366G1 helicopters, with a crossbar, P/N 365A38-3023-22, -23, or -24, installed. The DGAC classified these service bulletins as mandatory and issued ADs 2003-241(A) and 1997-093-041(A) R2, both dated June 25, 2003, to ensure the continued airworthiness of these helicopters in France.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of these type designs that are certificated for operation in the United States.

Interested persons have been afforded an opportunity to participate in the making of this amendment. No comments were received on the proposal or the FAA's determination of the cost to the public. The FAA has determined that air safety and the public interest require adopting the rule as proposed except we have expanded the contact address in paragraph (b) in the body of the AD to provide more information to the public. This change will neither increase the economic burden on any operator nor increase the scope of this AD.

We estimate that this AD will affect 133 helicopters of U.S. registry, and will:

• Take about 1 work hour to inspect the diagonal cross-member,

• Take about 10 work hours to replace the diagonal cross-member, if necessary, at an average labor rate of $65 per work hour, and

• Cost about $6,600 to replace the part.

Based on these figures, we estimate the total cost impact of the AD on U.S. operators to be $139,990, assuming 12 inspections per year per helicopter, and assuming 5 helicopters require replacing the diagonal cross-member.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the DMS to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-10463 (63 FR 17676, April 10, 1998), and by adding a new airworthiness directive (AD), Amendment 39-14510, to read as follows:

2006-06-02 Eurocopter France: Amendment 39-14510. Docket No. FAA-2005-23159; Directorate Identifier 2005-SW-10-AD. Supersedes AD 98-08-14, Amendment 39-10463, Docket No. 97-SW-21-AD.

Applicability: Model SA-365N, SA365N1, AS-365N2, and SA-366G1 helicopters with a main gearbox (MGB) suspension diagonal cross-member (diagonal cross-member), part number (P/N) 365A38-3023-20, -21, -22, -23, or -24, installed, certificated in any category.

Compliance: Required as indicated, unless accomplished previously.

To prevent failure of the diagonal cross-member, pivoting of the MGB, severe vibrations, and subsequent forced landing, do the following:

(a) For Model SA-365N and SA-365N1 helicopters, before accumulating 15,000 operating cycles; and for Model AS-365N2 and SA-366G1 helicopters, before accumulating 11,000 operating cycles:

(1) Inspect the diagonal cross-member for a crack in the area of the center borehole. Use a borescope with a 90-degree drive, a video assembly with optical fiber illumination, or any other appropriate device that allows you to visually inspect the center area of the part.

(2) Repeat the inspection required by paragraph (a)(1) of this AD at intervals not to exceed 250 operating cycles or 50 hours time-in-service, whichever occurs first.

Note 1: “Operating cycles” are defined in the Airworthiness Limitations Section of the Master Servicing Recommendations.

(b) If a crack is found as a result of the inspections required by this AD, before further flight, replace the diagonal cross-member with an airworthy diagonal cross-member.

(c) To request a different method of compliance or a different compliance time for this AD, follow the procedures in 14 CFR 39.19. Contact the Rotorcraft Directorate, FAA, ATTN: Gary Roach, Aviation Safety Engineer, Regulations and Guidance Group, Fort Worth, Texas 76193-0111, telephone (817) 222-5130, fax (817) 222-5961, for information about previously approved alternative methods of compliance.

(d) This amendment becomes effective on April 17, 2006.

Note 2: The subject of this AD is addressed in Direction Generale De L-Aviation Civile (France) AD 1997-093-041(A) R2, dated June 25, 2003, and 2003-241(A), dated June 25, 2003.

Issued in Fort Worth, Texas, on March 1, 2006.
David A. Downey,
Manager, Rotorcraft Directorate, Aircraft Certification Service.

[FR Doc. 06-2358 Filed 3-10-06; 8:45 am]

BILLING CODE 4910-13-P